SMALL BUSINESS ADMINISTRATION

Reporting and Recordkeeping Requirements; 8(a) Annual Update

AGENCY: Small Business Administration.

ACTION: Notice of Information Collection Submitted for OMB Review.

SUMMARY: Under the provisions of the Paperwork Reduction Act (44 U.S.C. chapter 35), agencies are required to submit proposed reporting and recordkeeping requirements to the Office of Management and Budget (OMB) for review and approval, and to publish a notice in the Federal Register notifying the public that the agency has made such a submission. The information is currently conditionally approved by OMB. SBA is publishing this 30-day notice for public comment to comply with the terms of that conditional approval, which was issued on August 31, 2012. The public is encouraged to submit written comments on this proposed information collection.

DATES: Submit comments on or before March 11, 2013.

ADDRESSES: Address all comments concerning this notice to: Agency Clearance Officer, Curtis Rich, Small Business Administration, 409 3rd Street SW., 5th Floor, Washington, DC 20416; and OMB Reviewer for Small Business Administration, Office of Information and Regulatory Affairs, Office of Management and Budget, New Executive Office Building, Washington, DC 20503.

Copies: Request for copies of the information collection, OMB Form 83-1, supporting statement, and other documents submitted to OMB for review may be obtained from the Agency Clearance Officer.

FOR FURTHER INFORMATION CONTACT: Curtis Rich, Agency Clearance Officer, curtis.rich@sba.gov (202) 205-7030.

SUPPLEMENTARY INFORMATION: This information collection, 8(a) Annual Update, (Form 1450) is submitted by all small businesses participating in SBA's 8(a) Business Development Program (8(a) BD Program), to annually update and report to SBA on the firm's business progress and participation in the program, particularly on the review and update requirements outlined in the SBA regulations at 13 CFR 124.112.

SBA has revised this information collection to, among other things, reflect amendments to the 8(a) BD Program regulations that now require program Participants to report on all 8(a) contracts performed during the previous year, including any such contracts performed as a joint venture, explaining how the performance of work requirements are being met (or have been met); and also, for those Participants in the 8(a) Mentor-Protégé program, to report on services (by category and hours) received from the Mentor. SBA also revised, deleted, or added certain terms (e.g., SAM and DUNS) to conform to current usage; clarified submission of personal information including tax returns, as well as the notification requirements concerning transferred assets.

Title: 8(a) Annual Update.

Frequency: Annual.

SBA Form Number: 1450.

Description of Respondents: Firms that are currently certified as Participant firms in the 8(a) Business Development program.

Estimated Annual Responses: 7,793.

Estimated Annual Hour Burden: 16,099.

Curtis Rich,
Management Analyst.

[FR Doc. 2013-02827 Filed 2-7-13; 8:45 am]

BILLING CODE 8025-01-P